DEPARTMENT OF AGRICULTURE

Forest Service

Availability of an Environmental Assessment for an Amendment to the White Mountain National Forest Land and Resource Management Plan; Grafton, Coos, and Carroll Counties, New Hampshire, and Oxford County, Maine

AGENCY: Forest Service, Agriculture.

ACTION: Notice of availability of an environmental assessment.

SUMMARY: The White Mountain National Forest proposes to amend the Forest Plan to address threatened, endangered, and sensitive species. Supervisor Donna L. Hepp (Responsible Official) made available copies of the Environmental Assessment for the Proposed Amendment to the White Mountain National Forest Land and Resource Management Plan for Threatened, Endangered, and Sensitive Species. This amendment adds required Terms and Conditions from a Biological Opinion issued by the U.S. Fish and Wildlife Service, to minimize impacts to the federally endangered Indiana bat (Myotis sodalis). The amendment also provides new standards to protect the federally threatened small whorled pogonia (Isotria medeoloides) and includes new direction on protection of Regional Forester Sensitive Species. This notice is required pursuant to National Forest System Land and Resource Management Planning regulations (36 CFR 219.35(b)).

DATES: On April 21, 2000, the White Mountain National Forest initiated scoping for the proposal to amend the White Mountain National Forest Land and Resource Management Plan (Forest Plan). On January 22, 2001, White Mountain National Forest Supervisor Donna L. Hepp (Responsible Official) made available for public notice and comment an Environmental Assessment to amend the White Mountain National Forest Land and Resource Management Plan for Threatened, Endangered, and Sensitive species. The Environmental Assessment was available for public comment beginning January 22, 2001. Comments were accepted through February 21, 2001. A decision is expected in April of 2001.

ADDRESSES: The Forest Supervisor's address is Forest Supervisor, White Mountain National Forest, 719 North Main St., Laconia, NH 03246.

FOR FURTHER INFORMATION CONTACT: Leighlan Prout, Forest Biologist, at 603-528-8721 or TTY 603-528-8722.

Responsible Official: Donna L. Hepp, Forest Supervisor, 719 North Main Street, Laconia, NH 03246.

SUPPLEMENTARY INFORMATION: New standards are being proposed for several reasons: (1) To officially adopt Terms and Conditions specified by the U.S. Fish and Wildlife Service to minimize “take” (under the Endangered Species Act) of Indiana bats, as well as propose additional measures to aid in Indiana bat recovery; (2) To incorporate standards for protecting small whorled pogonia, a threatened species discovered after the approval of the original Forest Plan in 1986; and (3) To provide protective standards for Regional Forester Sensitive Species, the list of which was recently evaluated and updated in February 2000. This is a non-significant amendment.

Dated: March 9, 2001.
Donna L. Hepp,
Forest Supervisor.

[FR Doc. 01-6874 Filed 3-19-01; 8:45 am]

BILLING CODE 3410-11-M